DEPARTMENT OF HOUSING AND URBAN DEVELOPMENT

24 CFR Part 891

[Docket No. FR 5890-C-03]

RIN 2501-AD75

Narrowing the Digital Divide Through Installation of Broadband Infrastructure in HUD-Funded New Construction and Substantial Rehabilitation of Multifamily Rental Housing; Correction

AGENCY: Office of General Counsel, HUD.

ACTION: Final rule; correction.

SUMMARY: On December 20, 2016, HUD published a final rule requiring the installation of broadband infrastructure at the time of new construction or substantial rehabilitation of multifamily rental housing that is funded or supported by HUD, the point at which such installation is generally easier and less costly than when undertaken as a stand-alone effort. This document corrects incorrect paragraph designations in one section of the regulatory text. The effective date for HUD's final rule of January 19, 2017 is unchanged.

DATES: Effective January 19, 2017.

FOR FURTHER INFORMATION CONTACT: With respect to this supplementary document, contact Ariel Periera, Associate General Counsel for Legislation and Regulations, Department of Housing and Urban Development, 451 7th Street SW., Room 10238, Washington, DC 20410; telephone number 202-708-1793 (this is not a toll-free number). Persons with hearing or speech impairments may access this number through TTY by calling the toll-free Federal Relay Service at 800-877-8339.

SUPPLEMENTARY INFORMATION: In the final rule FR Doc. 2016-30708, published in the Federal Register on December 20, 2016 (81 FR 92626), the following correction is made:

§ 891.20 [Corrected]

On page 92638, in the third column, in § 891.20, paragraphs (f)(a) through (c) are redesignated as paragraphs (f)(1) through (3).

Dated: January 4, 2017.
Aaron Santa Anna,
Assistant General Counsel for Regulations.

[FR Doc. 2017-00167 Filed 1-11-17; 8:45 am]

BILLING CODE 4210-67-P